DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 24, 2011.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on February 15, 2011.
Donald Burger,
Chief, Special Permits and Approvals Branch.

Application No. | Docket No. | Applicant | Regulation(s) affected | Nature of special permits thereof
NEW SPECIAL PERMITS
15213-N |  | Centronic LLC, Houston, TX | 49 CFR 172.101 Column 9 and 173.310 | To authorize the transportation in commerce of Boron Trifluoride in electron tubes that are part of a radiation detector. (modes 1, 2, 3, 4, 5)
15229-N |  | Linde Gas North America LLC, NEW PROVIDENCE, NJ | 49 CFR 179.300-15 | To authorize the transportation in commerce of certain DOT 106 tank cars containing chlorine that are not fitted with a pressure relief device. (modes 1, 2, 3)
15235-N |  | Enco Industries, Inc., Plaistow, NH | 49 CFR 173,173(b) and 173.242 | To authorize the manufacture, marking, sale and use of UN 11G fiberboard intermediate bulk containers for use as the outer packaging for certain Class waste paints and waste paint related material. (mode 1)
15238-N |  | Reeder Flying Service, Inc., Twin Falls, ID | 49 CFR 49 CFR Table § 172.101, Column (9B), § 172.204(c)(3), § 173.27(b)(2) § 175.30(a)(1) § 172.200, 172.300, and 172.400 | To authorize the transportation in commerce of Acetylene, dissolved exceeding the quantity limitations for transportation by cargo only aircraft. (mode 4)
15240-N |  | R&R Hunting & Outdoor Adventures, LLC, Anchorage, AK | 49 CFR 49 CFR, 172.101 column (8C), 173.241, 173.242, 175.310 | To authorize the transportation in commerce of certain flammable and combustible liquids in alternative packaging having a capacity of 119 gallons or more by air. (mode 4)
15256-N |  | Suretank Group Ltd, Houma, LA | 49 CFR 173.243(c) | To authorize the manufacture, marking, and sale of non-DOT specification portable tank equipped with an external bottom discharge valve. (modes 1, 3)
15258-N |  | Air Products and Chemicals, Inc., Tamaqua, PA | 49 CFR 180.205 and 173.302a | To authorize the ultrasonic testing of DOT-3A and DOT-3AA specification cylinders for use in transporting Division 2.1, 2.2 or 2.3 material. (modes 1, 2, 3, 4, 5)
15260-N |  | Structural Composites Industries, (SCI), Pomona, CA | 49 CFR 173.302a and 173.304a | To authorize the manufacture, marking, sale and use of non-DOT specification fully wrapped carbon-fiber reinforced aluminum lined cylinders. (modes 1, 2, 3, 4, 5)
15263-N |  | Alaska Central Express, Anchorage, AK | 49 CFR 175.501(e)(3)(i) | To authorize the transportation in commerce of cylinders containing oxidizing gases without outerpackaging that conforms to the performance criteria of Air Transport Association Specification 300. (modes 4, 5)
15264-N |  | Digital Wave Corporation, Englewood, CO | 49 CFR 180.209 and 180.205 | To authorize the transportation in commerce of medical compressed oxygen in DOT Specification 3AL cylinders manufactured from aluminum alloy 6061-T6 that are requalified every ten years rather than every five years using 100% ultrasonic examination. (modes 1, 2, 3, 4, 5)
15265-N |  | Valjean Corporation, Indian Harbour Beach, FL | 49 CFR 173.306(a)(3)(v) | To authorize the manufacture, marking, sale and use of a bag-on-valve spray packaging similar to an aerosol container without requiring the hot water bath test. (modes 1, 2, 3, 4, 5)
15266-N |  | 3AL Testing Corp., Denver, CO | 49 CFR 180.205 and 180.209 | To authorize the transportation in commerce of certain DOT 3AL 6061-T6 cylinders used exclusively in medical oxygen service to be requalified every 10 years rather than every 5 years. (modes 1, 2, 3, 4, 5)
15267-N |  | SMI Companies, Franklin, LA | 49 CFR 171.8 | To authorize the manufacture, marking, and sale of non-DOT specification intermodal tanks with a capacity of 150 liters for transportation of liquid bromine. (modes 1, 2, 3, 4, 5)

[FR Doc. 2011-3795 Filed 2-18-11; 8:45 am]

BILLING CODE 4909-60-M